NATIONAL SCIENCE FOUNDATION

Sunshine Act Meetings; National Science Board

The National Science Board (NSB), pursuant to NSF regulations (45 CFR part 614), the National Science Foundation Act, as amended, (42 U.S.C. 1862n-5), and the Government in the Sunshine Act (5 U.S.C. 552b), hereby gives notice of the scheduling of meetings for the transaction of NSB business as follows:

TIME AND DATE: Wednesday, May 2, 2018, from 8:00 a.m. to 4:00 p.m. and Thursday, May 3, 2018, from 8:30 a.m. to 1:45 p.m. EST.

PLACE: These meetings will be held at the NSF headquarters, 2415 Eisenhower Avenue, Alexandria, VA 22314. Meetings are held in the boardroom on the 2nd floor. The public may observe public meetings held in the boardroom. All visitors must contact the Board Office (call 703-292-7000 or send an email to nationalsciencebrd@nsf.gov) at least 24 hours prior to the meeting and provide your name and organizational affiliation. Visitors must report to the NSF visitor's desk in the building lobby to receive a visitor's badge.

STATUS: Some of these meetings will be open to the public. Others will be closed to the public. See full description below.

MATTERS TO BE CONSIDERED:

Wednesday, May 2, 2018

Plenary Board Meeting

Open Session: 8:00-8:30 a.m.

• NSB Chair's Opening Remarks

• NSF Director's Remarks

• Summary of DC Meetings

Committee on Oversight (CO)

Open Session: 8:30-9:15 a.m.

• Committee Chair's Opening Remarks

• Approval of Prior Minutes

• Review of the OIG Semiannual Report

• Inspector General Update

• FY 2018 Financial Statement Audit

• Chief Financial Officer Update

• Committee Chair's Reflections on Past Board Term

Committee on External Engagement (EE)

Open Session: 9:15-10:15 a.m.

• Committee Chair's Opening Remarks

• Approval of Prior Minutes

• Indicators 2018 Rollout Update

• Michigan Listening Session Report

• Engagement Strategies

• Committee Chair's Reflections on Past Board Term

Task Force on the Skilled Technical Workforce (STW)

Open Session: 10:15-10:45 a.m.

• Chair's Opening Remarks

• Approval of Prior Minutes

• Task Force Strategy and Deliverables

Committee on Awards and Facilities (A&F)

Open Session: 10:55-11:30 a.m.

• Committee Chair's Opening Remarks

• Approval of Prior Minutes

• CY 2018-2019 Schedule of Planned Action and Information Items

• Risk Working Group Report

• Committee Chair's Reflections on Past Board Term

National Science Board

Plenary Open Session: 11:30 a.m.-12:15 p.m.

• Chair's Opening Remarks and Introduction of Dr. Jane Lubchenco

• Dr. Lubchenco Presentation

• Director's Introduction of Dr. Kristina Olson

• Dr. Olson Presentation

National Science Board

Plenary Open Session: 1:15-2:00 p.m.

• Chair's Opening Remarks and Introduction of Mr. Dean Kamen

• Mr. Kamen Presentation

• Director's Introduction of The Honorable Deborah Wince-Smith

• Hon. Deborah Wince-Smith Presentation

Committee on Awards and Facilities (A&F)

Closed Session: 2:00-4:00 p.m.

• Committee Chair's Opening Remarks

• Approval of Prior Minutes

• Action Item: Ocean Observatories Initiative (OOI) Operations and Management

• Information Item: Geodesy Advancing Geosciences (GAGE) Facility and the Seismological Facilities for the Advancement of Geosciences (SAGE)

• Action Item: Laser Interferometer Gravitational-Wave Observatory (LIGO) Operations and Maintenance

• Information Item: Candidate MREFC-funded Upgrades of the ATLAS and CMS Detectors at the Large Hadron Collider

MATTERS TO BE DISCUSSED

Thursday, May 3, 2018

Committee on National Science and Engineering Policy (SEP)

Open Session: 8:30-9:10 a.m.

• Committee Chair's Opening Remarks

• Approval of Prior Minutes

• Update on Future Indicators Project

• Discussion of the Second Policy Companion to Indicators

• Committee Chair's Reflections on Past Board Term

Committee on Strategy (CS)

Open Session: 9:10-9:30 a.m.

• Committee Chair's Opening Remarks

• Approval of Prior Minutes

• FY 2018 Appropriations and FY 2019 Budget Request Summary

• Committee Chair's Reflections on Past Board Term

Committee on Strategy (CS)

Closed Session: 9:30-10:30 a.m.

• Committee Chair's Opening Remarks

• Approval of Prior Minutes

• FY 2018-FY 2019 Budget Discussion

Plenary Board

Closed Session: 10:45-11:05 a.m.

• Board Chair's Opening Remarks

• Director's Remarks

• Approval of Prior Minutes

• Closed Committee Reports

• Vote: National Center for Atmospheric Research (NCAR)

• Vote: Ocean Observatories Initiative (OOI) O&M

• Vote: Laser Interferometer Gravitational-Wave Observatory (LIGO) O&M

• Vote: Contract Services for Arctic Sciences Logistics

Plenary Board (Executive)

Closed Session: 11:05-11:50 a.m.

• Board Chair's Opening Remarks

• Approval of Prior Minutes

• Director's Remarks

• Presentation of Election Slate for May 2018 Board Elections

• Elections

Plenary Board

Open Session: 1:00-1:45 p.m.

• Board Chair's Opening Remarks

• NSF Director's Remarks

• Approval of Prior Minutes

• Open Committee Reports

• Vote: NSB Risk Philosophy and Principles

• Vote: Annual Executive Committee Report

• Outgoing Board Member Farewell

• Board Chair's Closing Remarks

Meeting Adjourns: 1:45 p.m.

Portions Open to the Public

Wednesday, May 2, 2018

8:00-8:30 a.m. Plenary NSB Introduction

8:30-9:15 a.m. Committee on Oversight (CO)

9:15-10:15 a.m. Committee on External Engagement (EE)

10:15-10:45 a.m. Task Force on the Skilled Technical Workforce (STW)

10:55-11:30 a.m. Committee on Awards & Facilities (AF)

11:30 a.m.-12:15 p.m. Plenary Annual Awardee Presentations

1:15-2:00 p.m. Plenary Annual Awardee Presentations

Thursday, May 3, 2018

8:30-9:10 a.m. Committee on National Science and Engineering Policy (SEP)

9:10-9:30 a.m. Committee on Strategy (CS)

1:00-1:45 p.m. Plenary

Portions Closed to the Public

Wednesday, May 2, 2018

2:00-4:00 p.m. (A&F)

Thursday, May 3, 2018

9:30-10:30 a.m. (CS)

10:45-11:05 a.m. Plenary

11:05-11:50 a.m. Plenary Executive

Contact Persons for More Information: The NSB Office contact is Brad Gutierrez, bgutierr@nsf.gov, 703-292-7000. The NSB Public Affairs contact is Nadine Lymn, nlymn@nsf.gov, 703-292-2490.

Supplemental Information: Public meetings and public portions of meetings held in the 2nd floor boardroom will be webcast. To view these meetings, go to: http://www.tvworldwide.com/events/nsf/180502 and follow the instructions. The public may observe public meetings held in the boardroom. The address is 2415 Eisenhower Avenue, Alexandria, VA 22314.

Please refer to the NSB website for additional information. You will find any updated meeting information and schedule updates (time, place, subject matter, or status of meeting) at https://www.nsf.gov/nsb/meetings/notices.jsp#sunshine.

The NSB will continue its program to provide some flexibility around meeting times. After the first meeting of each day, actual meeting start and end times will be allowed to vary by no more than 15 minutes in either direction. As an example, if a 10:00 meeting finishes at 10:45, the meeting scheduled to begin at 11:00 may begin at 10:45 instead. Similarly, the 10:00 meeting may be allowed to run over by as much as 15 minutes if the Chair decides the extra time is warranted. The next meeting would start no later than 11:15. Arrive at the NSB boardroom or check the webcast 15 minutes before the scheduled start time of the meeting you wish to observe.

Ann Bushmiller,
Senior Counsel to the National Science Board.

[FR Doc. 2018-08981 Filed 4-24-18; 4:15 pm]

BILLING CODE 7555-01-P